DEPARTMENT OF HOUSING AND URBAN DEVELOPMENT

[Docket No. FR-7002-N-12]

60-Day Notice of Proposed Information Collection: Rural Capacity Building

Correction

In notice document 2018-24492, appearing on pages 56094 through 56095, in the issue of Friday, November 9, 2018, make the following correction:

On page 56094, in the second column, in the document heading, the subject line should read as set forth above.

[FR Doc. C1-2018-24492 Filed 11-30-18; 8:45 am]

BILLING CODE 1301-00-D